NUCLEAR REGULATORY COMMISSION

[Docket No. 50-261; NRC-2010-0062]

Carolina Power & Light Company; H.B. Robinson Steam Electric Plant, Unit No. 2; Environmental Assessment and Finding of No Significant Impact

The U.S. Nuclear Regulatory Commission (NRC) is considering issuance of an exemption pursuant to Title 10 of the Code of Federal Regulations (10 CFR) Section 73.5, “Specific exemptions,” from the implementation date for certain new requirements of 10 CFR Part 73, “Physical protection of plants and materials,” for Facility Operating License No. DPR-23, issued to Carolina Power & Light Company (the licensee), for operation of the H. B. Robinson Steam Electric Plant, Unit 2 (HBRSEP), located in Darlington County, South Carolina. In accordance with 10 CFR 51.21, “Criteria for and identification of licensing and regulatory actions requiring environmental assessments,” the NRC staff prepared an environmental assessment documenting its finding. The NRC staff concluded that the proposed action will have no significant environmental impact.

Environmental Assessment

Identification of the Proposed Action

The proposed action would exempt the licensee from the required implementation date of March 31, 2010, for one specific requirement of 10 CFR Part 73. Specifically, HBRSEP would be granted a second exemption, further extending the date for full compliance with one remaining item of the requirements contained in 10 CFR 73.55, from December 30, 2010, (the date specified in a prior exemption granted by NRC on March 3, 2010), until September 16, 2011. The proposed action, an extension of the schedule for completion of certain actions required by the revised 10 CFR Part 73, does not result in any additional physical changes to the reactor, fuel, plant structures, support structures, water, or land at the HBRSEP site.

The proposed action is in accordance with the licensee's application dated September 30, 2010.

The Need for the Proposed Action

The proposed exemption is needed to provide the licensee with additional time, beyond the date granted by the NRC letter dated March 3, 2010, to implement one remaining item of the two requirements in the previous exemption that involves important physical modifications to the HBRSEP security system. The licensee has performed an extensive evaluation of the revised 10 CFR Part 73 and has achieved compliance with a vast majority of the revised rule by the March 31, 2010, compliance date. However, the licensee has determined that implementation of one specific provisions of the rule will require more time to implement because they involve upgrades to the security system that require significant physical modifications (e.g., the relocation of certain security assets to a new security building that will be constructed, and the addition of certain power supplies). There are several issues which have delayed the work to this point and impacted the projected schedule: (1) The complexity of the design and construction of the projects which lead to unforeseen scope growth; (2) a better understanding of the time necessary for transition and testing for the new systems; and (3) due to a fire in an electrical switchgear room, the spring refueling outage was extended beyond that originally anticipated when schedules were first developed. These issues were revealed as the design evolved from the conceptual state to a detailed design. Additional time, beyond that previously approved, is needed due the extensive redesign and review effort that was unforeseen at the conceptual design stage.

Environmental Impacts of the Proposed Action

The NRC staff has completed its environmental assessment of the proposed exemption and has concluded that the proposed action to extend the implementation deadline would not significantly affect plant safety and would not have a significant adverse effect on the probability or consequences of an accident.

The proposed action would not result in an increased radiological hazard beyond those previously analyzed in the environmental assessment and finding of no significant impact made by the Commission in promulgating its revisions to 10 CFR Part 73 as discussed in a Federal Register notice dated March 27, 2009 (74 FR 13967). There will be no change to radioactive effluents that affect radiation exposures to plant workers and members of the public. Therefore, no changes or different types of radiological impacts are expected as a result of the proposed exemption.

The proposed action does not result in changes to land use or water use, or result in changes to the quality or quantity of non-radiological effluents. No changes to the National Pollution Discharge Elimination System permit are needed. No effects on the aquatic or terrestrial habitat in the vicinity of the plant, or to threatened, endangered, or protected species under the Endangered Species Act, or impacts to essential fish habitat covered by the Magnuson-Stevens Act are expected. There are no impacts to the air or ambient air quality.

There are no impacts to historical and cultural resources. There would be no impact to socioeconomic resources. Therefore, no changes to or different types of non-radiological environmental impacts are expected as a result of the proposed exemption.

Accordingly, the NRC staff concludes that there are no significant environmental impacts associated with the proposed action.

With its request to extend the implementation deadline, the licensee currently maintains a security system acceptable to the NRC and that will continue to provide acceptable physical protection of HBRSEP in lieu of the new requirements in 10 CFR Part 73. Therefore, the extension of the implementation date for one element of the new requirements of 10 CFR Part 73 to September 16, 2011, would not have any significant environmental impacts.

The NRC staff's safety evaluation will be provided as part of a letter to the licensee approving the exemption to the regulation, if granted.

Environmental Impacts of the Alternatives to the Proposed Action

As an alternative to the proposed action, the NRC staff considered denial of the proposed action (i.e., the “no action” alternative). Denial of the exemption request would result in no change in current environmental impacts. If the proposed action was denied, the licensee would have to comply with the existing implementation deadline of December 30, 2010, for one remaining item of the two requirements, as granted on March 3, 2010. The environmental impacts of the proposed exemption and the “no action” alternative are similar.

Alternative Use of Resources

The action does not involve the use of any different resources than those considered in the Final Environmental Statement for the HBRSEP, dated April 1975, as supplemented through the “Generic Environmental Impact Statement for License Renewal of Nuclear Plants: H.B. Robinson Steam Electric Plant, Unit 2—Final Report (NUREG—1437, Supplement 13).”

Agencies and Persons Consulted

In accordance with its stated policy, on December 15, 2010, the NRC staff consulted with the South Carolina State official, Susan Jenkins of the South Carolina Bureau of Land and Waste Management, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated September 30, 2010. Portions of the September 30, 2010, submittal contain proprietary and security-related information, and accordingly, a redacted version of this letter is available for public review in the Agencywide Documents Access and Management System (ADAMS), Accession No. ML102770306. This document may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html.

Persons who do not have access to ADAMS or who encounter problems in accessing the documents located in ADAMS should contact the NRC PDR Reference staff by telephone at 1-800-397-4209 or 301-415-4737, or send an e-mail to pdr.resource@nrc.gov.

Dated at Rockville, Maryland, this 16th day of December 2010.
For the Nuclear Regulatory Commission.
Farideh E. Saba,
Senior Project Manager, Plant Licensing Branch II-2, Division of Operating Reactor Licensing, Office of Nuclear Reactor Regulation.

[FR Doc. 2010-32142 Filed 12-21-10; 8:45 am]

BILLING CODE 7590-01-P